DEPARTMENT OF THE INTERIOR

National Park Service

[NPS-WASO-CR-NPS0030574; PPWOCRADI0, PCU00RP14.R50000 (211); OMB Control Number 1024-0037]

Agency Information Collection Activities; Submission to the Office of Management and Budget for Review and Approval; Archeology Permit Applications and Reports

AGENCY: National Park Service, Interior.

ACTION: Notice of information collection; request for comment.

SUMMARY: In accordance with the Paperwork Reduction Act of 1995, we, the National Park Service (NPS), are proposing to renew an information collection.

DATES: Interested persons are invited to submit comments on or before April 12, 2021.

ADDRESSES: Send written comments on this information collection request (ICR) to the Office of Management and Budget's Desk Officer for the Department of the Interior by email at OIRA_Submission@omb.eop.gov; or via facsimile to (202) 395-5806. Please provide a copy of your comments to Phadrea Ponds, NPS Information Collection Clearance Officer, 1201 Oakridge Drive, Fort Collins, CO 80525; or by email at phadrea_ponds@nps.gov or NPS_ICR@nps.gov. Please reference Office of Management and Budget (OMB) Control Number 1024-0037 in the subject line of your comments.

FOR FURTHER INFORMATION CONTACT: To request additional information about this ICR, contact Karen Mudar, Archeologist, Washington Support Office Archeology Program by email at karen_mudar@nps.gov; or by telephone at 202-354-2103. You may also view the ICR at http://www.reginfo.gov/public/do/PRAMain. Individuals who are hearing or speech impaired may call the Federal Relay Service at 1-800-877-8339 for TTY assistance.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on September 25, 2020 (85 FR 60487). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Section 4 of the Archeological Resources Protection Act of 1979 (16 U.S.C 470cc), and Section 3 of the Antiquities Act of 1906 (54 U.S.C. 320302), authorize any individual or institution to apply to Federal land managing agencies to scientifically excavate or remove archeological resources from public or Indian lands. A permit is required for any archeological investigation by non-NPS personnel occurring on parklands, regardless of whether or not these investigations are linked to regulatory compliance. Archeological investigations that require permits include excavation, shovel-testing, coring, pedestrian survey (with and without removal of artifacts), underwater archeology, photogrammetry, and rock art documentation. Individuals, academic and scientific institutions, museums, and businesses that propose to conduct archeological field investigations on parklands must first obtain a permit before the project may begin. To apply for a permit, applicants submit Form DI-1926 “Application for Permit for Archeological Investigations.” Applicants are required to submit the following information: (1) Statement of work, (2) Statement of applicant's capabilities, (3) Statement of applicant's past performance, (4) Curriculum vitae for principal investigator(s) and project director(s), (5) Written consent by State or tribal authorities to undertake the activity on State or tribal lands that are managed by the NPS, if required by the State or tribe, (6) Curation authorization, and (7) Detailed schedule of all project activities.

Persons receiving a permit must also submit (1) Preliminary reports, (2) Annual reports, and (3) Final reports.

Title of Collection: Archeology Permit Applications and Reports.

OMB Control Number: 1024-0037.

Form Number: Form DI-1926.

Type of Review: Extension of a currently approved collection.

Respondents/Affected Public: Individuals or organizations wishing to excavate or remove archeological resources from public or Indian lands.

Total Estimated Number of Annual Respondents: 172.

Total Estimated Number of Annual Responses: 172.

Estimated Completion Time per Response: Varies; up to 8 hours, depending on activity.

Total Estimated Number of Annual Burden Hours: 1,032.

Respondent's Obligation: Required to obtain or retain a benefit.

Frequency of Collection: On occasion, one time.

Total Estimated Annual Non-hour Burden Cost: None.

Activity | Total annual responses | Completion time per response (hours) | Total annual burden hours
Form DI-1926,”
Private | 65 | 8 | 520
Individual | 10 | 8 | 80
Government | 11 | 8 | 88
Reports
Private | 65 | 4 | 260
Individual | 10 | 4 | 40
Government | 11 | 4 | 44
Totals | 172 |  | 1,032

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2021-05078 Filed 3-10-21; 8:45 am]

BILLING CODE 4312-52-P